SECURITIES AND EXCHANGE COMMISSION

17 CFR Part 232

Regulation S-T—General Rules and Regulations for Electronic Filings

CFR Correction

This rule is being published by the Office of the Federal Register to correct an editorial or technical error that appeared in the most recent annual revision of the Code of Federal Regulations.

In Title 17 of the Code of Federal Regulations, Parts 200 to 239, revised as of April 1, 2022, in section 232.11, reinstate the definition of “Interactive Data Financial Report” to read as follows:

§ 232.11 Definition of terms used in part 232.

* * * * *

Interactive Data Financial Report. The term Interactive Data Financial Report means the machine-readable computer code that presents information in eXtensible Business Reporting Language (XBRL) electronic format pursuant to § 232.407.

* * * * *

[FR Doc. 2023-06293 Filed 3-23-23; 8:45 am]

BILLING CODE 0099-10-P